SUSQUEHANNA RIVER BASIN COMMISSION

Projects Rescinded for Consumptive Uses of Water

AGENCY: Susquehanna River Basin Commission.

ACTION: Notice.

SUMMARY: This notice lists the approved by rule projects rescinded by the Susquehanna River Basin Commission during the period set forth in DATES.

DATES: December 1-31, 2017.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, being rescinded for the consumptive use of water pursuant to the Commission's approval by rule process set forth in 18 CFR 806.22(e) and § 806.22(f) for the time period specified above:

Rescinded ABR Issued:

1. Endless Mountain Energy Partners, LLC, Pad ID: SGL Tract 268-Pad B, ABR-201206010.R1, Morris Township, Tioga County, Pa.; Rescind Date: December 20, 2017.

2. Endless Mountain Energy Partners, LLC, Pad ID: Sturgis-B, ABR-201205019.R1, Gallagher Township, Clinton County, Pa.; Rescind Date: December 20, 2017.

Authority: Pub. L. 91-575, 84 Stat. 1509 et seq., 18 CFR parts 806, 807, and 808.

Dated: February 16, 2018.
Stephanie L. Richardson,
Secretary to the Commission.

[FR Doc. 2018-03690 Filed 2-22-18; 8:45 am]

BILLING CODE 7040-01-P